DEPARTMENT OF COMMERCE

International Trade Administration

[A-351-503, A-122-503, A-570-502, C-351-504]

Continuation of Antidumping Duty Orders on Certain Iron Construction Castings from Brazil, Canada, and the People's Republic of China, and the Countervailing Duty Order on Heavy Iron Construction Castings from Brazil

AGENCY: Import Administration, International Trade Administration, Department of Commerce.

SUMMARY: As a result of the determinations by the Department of Commerce (“the Department”) and the International Trade Commission (“ITC”) that revocation of the antidumping duty orders on certain iron construction castings from Brazil, Canada, and the People's Republic of China (“China”), and the countervailing duty order on heavy iron construction castings from Brazil would likely lead to continuation or recurrence of dumping and countervailable subsidies, and material injury to an industry in the United States, the Department is publishing notice of continuation of these antidumping and countervailing duty orders.

EFFECTIVE DATE: June 29, 2005.

FOR FURTHER INFORMATION CONTACT: Martha V. Douthit or Dana Mermelstein, AD/CVD Operations, Office 6, Import Administration, International Trade Administration, U.S. Department of Commerce, 14th Street and Constitution Avenue, NW, Washington, DC 20230; telephone: (202) 482-5050 or (202) 482-1391, respectively.

SUPPLEMENTARY INFORMATION:

Background

On October 1, 2004, the Department initiated and the ITC instituted sunset reviews of the antidumping duty orders on certain iron construction castings from Brazil, Canada, and China, and the countervailing duty order on heavy iron construction castings from Brazil, pursuant to section 751(c) of the Tariff Act of 1930, as amended (“the Act”).¹

¹ See Initiation of Five-Year (“Sunset”) Reviews, 69 FR 58890 (October 1, 2004), and ITC Investigation No. 731-TA-125 (Second Review), 69 FR 58955 (October 1, 2004).

As a result of its review, the Department found that revocation of the antidumping and countervailing duty orders would likely lead to continuation or recurrence of dumping and countervailable subsidies, and notified the ITC of the magnitude of the margins and the net countervailable subsidy likely to prevail were the orders to be revoked.² On June 14, 2005, the ITC determined pursuant to section 751(c) of the Act, that revocation of the antidumping duty orders on certain iron construction casting from Brazil, Canada, and China, and the countervailing duty order on heavy iron construction castings from Brazil would likely lead to continuation or recurrence of material injury to an industry in the United States within a reasonably foreseeable time.³

² See Certain Iron Construction Castings from Canada; Five Year (“Sunset”) Review of Antidumping Duty Order: Final Results, 70 FR 24512 (May 10, 2005), Certain Iron Construction Castings from Brazil; Five Year (“Sunset”) Review of Antidumping Duty Order: Final Results, 70 FR 24513 (May 10, 2005), Certain Iron Construction Castings from the People's Republic of China; Five Year (“Sunset”) Review of Antidumping Duty Order: Final Results, 70 FR 24611 (May 10, 2005), and Certain Iron Construction Castings from Brazil; Five Year (“Sunset”) Review of Countervailing Duty Order: Final Results, 70 FR 24529 (May 10, 2005).

³ See Investigation Nos. 701-TA-249, 731-TA-262, 263, and 265 (Second Review), 70 FR 34505 (June 14, 2005).

Scope of the Orders

Brazil (A-351-503)

The merchandise subject to this antidumping duty order consists of certain iron construction castings, limited to manhole covers, rings, and frames; catch basin grates and frames; and cleanout covers and frames used for drainage or access purposes for public utility, water and sanitary systems, classifiable as heavy castings under Harmonized Tariff Schedule of the United States (“HTS”) item number 7325.10.0010; and to valve, service, and meter boxes which are placed below ground to encase water, gas, or other valves, or water and gas meters, classifiable as light castings under HTS item number 7325.10.0050.

Canada (A-122-503)

The merchandise subject to this antidumping duty order consists of certain iron construction castings, limited to manhole covers, rings, and frames; catch basin grates and frames; cleanout covers and frames used for drainage or access purposes for public utility, water and sanitary systems, classifiable as heavy castings under HTS item number 7325.10.0010.

China (A-570-502)

The merchandise subject to this antidumping duty order consists of certain iron construction castings, limited to manhole covers, rings and frames; catch basin grates and frames; and cleanout covers and frames used for drainage or access purposes for public utility, water and sanitary systems; and valve, service, and meter boxes which are placed below ground to encase water, gas, or other valves, or water and gas meters. These articles must be of cast iron, not alloyed, and not malleable. The merchandise is currently classifiable under item number 7325.10.0010 and 7325.10.0050.

Brazil (C-351-504)

The merchandise subject to this countervailing duty order consists of certain heavy iron construction castings from Brazil. The merchandise is defined as manhole covers, rings and frames; catch basin grates and frames; and cleanout covers and frames. This merchandise is currently classifiable under HTS item number 7325.10.00.

The HTS item numbers subject to these antidumping and countervailing duty orders are provided for convenience and customs purposes. The written product descriptions remain dispositive.

Determination

As a result of the determinations by the Department and the ITC that revocation of these antidumping and countervailing duty orders would likely lead to continuation or recurrence of dumping and countervailable subsidies, and material injury to an industry in the United States, pursuant to section 751(d)(2) of the Act, the Department hereby orders the continuation of the antidumping duty orders on certain iron construction castings from Brazil, Canada, and China, and countervailing duty order on heavy iron construction castings from Brazil.

U.S. Customs and Border Protection (“CBP”) will continue to collect antidumping and countervailing duty cash deposits at the rates in effect at the time of entry for all imports of subject merchandise.

The effective date of continuation of these orders will be the date of publication in the Federal Register of this Notice of Continuation. Pursuant to section 751(c)(2) and 751(c)(6)(A) of the Act, the Department intends to initiate the next five-year reviews of these orders not later than May 2010.

These five-year (sunset) reviews and this notice are in accordance with section 751(c) of the Act.

Dated: June 21, 2005.
Joseph A. Spetrini,
Acting Assistant Secretary for Import Administration.

[FR Doc. E5-3393 Filed 6-28-05; 8:45 am]

Billing Code: 3510-DS-S